ENVIRONMENTAL PROTECTION AGENCY

[EPA-R09-OAR-2016-0580; FRL-9955-86-Region 9]

Comment Period Extended: General Permit Under the Federal Indian Country Minor NSR Program

AGENCY: United States Environmental Protection Agency (EPA).

ACTION: Notice; comment period extended.

SUMMARY: The Environmental Protection Agency (EPA) previously provided notice of, and requested public comment on, the EPA's draft general permit for gasoline dispensing facilities for use in Indian country within California pursuant to the Clean Air Act (CAA) Federal Indian Country Minor New Source Review (NSR) program for new and modified minor sources. The EPA is extending the deadline for submitting comments on this action until January 31, 2017. Any person may submit written comments on the draft permit during the public comment period.

DATES: Comments will be accepted until January 31, 2017.

ADDRESSES: Documents relevant to the above-referenced permit are available for public inspection during normal business hours at the following address: U.S. Environmental Protection Agency, Region 9, 75 Hawthorne Street, San Francisco, CA 94105-3901. To arrange for viewing of these documents, call Lisa Beckham at (415) 972-3811. Due to building security procedures, at least 24 hours advance notice is required.

FOR FURTHER INFORMATION CONTACT: Lisa Beckham, EPA Region 9, (415) 972-3811, beckham.lisa@epa.gov. Key portions of the administrative record for this decision are available through a link at Region 9's Web site, https://www.epa.gov/caa-permitting/california-tribal-gasoline-permits, or at www.regulations.gov (Docket ID # EPA-R09-OAR-2016-0580).

SUPPLEMENTARY INFORMATION:

Extension of Comment Period

On September 30, 2016, the EPA provided notice of, and requested public comment on, the EPA's draft general permit for gasoline dispensing facilities for use in Indian country within California pursuant to the Clean Air Act (CAA) Federal Indian Country Minor New Source Review (NSR) program for new and modified minor sources at 40 CFR 49.151 through 49.161. See also 81 FR 69814 (Oct. 7, 2016).

The EPA is extending the deadline for submitting comments on this action until January 31, 2017. Any person may submit written comments on the draft permit during the public comment period. These comments must raise any reasonably ascertainable issue with supporting arguments by the close of the public comment period. All written comments on the draft general permit must be received or postmarked by January 31, 2017. Comments must be sent or delivered in writing to Lisa Beckham at one of the following addresses:

Email: R9airpermits@epa.gov.

Online Docket: www.regulations.gov, Docket ID: EPA-R09-OAR-2016-0580.

U.S. Mail: Lisa Beckham (AIR-3), U.S. EPA Region 9, 75 Hawthorne Street, San Francisco, CA 94105-3901.

Please see our previous notice for additional information about this action, which is available through the online docket here: https://www.regulations.gov/document?D=EPA-R09-OAR-2016-0580-0005.

As detailed in our previous notice, the EPA has scheduled a public hearing for this action on November 30, 2016 from 2:00 to 3:30 p.m. at U.S. EPA Region 9, 1st Floor Conference Center, 75 Hawthorne Street, San Francisco, California. Please note that our previous notice for this action announced a deadline of November 16, 2016 for requesting an additional public hearing; this deadline has passed and is not being extended.

The draft general permit and other supporting information about this action are available through this Web page: https://www.epa.gov/caa-permitting/california-tribal-gasoline-permits. If you have questions, or if you wish to obtain further information, please contact Lisa Beckham at (415) 972-3811, toll-free at (866) 372-9378, via email at R9airpermits@epa.gov, or at the mailing address above. If you would like to be added to our mailing list to receive future information about this draft permit decision or other permit decisions issued by the EPA Region 9, please contact Lisa Beckham, or visit the EPA Region 9's Web site at http://www2.epa.gov/caa-permitting/tribal-nsr-permits-region-9.

Summary of Proposed Action

The draft general permit is for a single source category, gasoline dispensing facilities (GDFs), and would be available in certain areas of Indian country that are within the geographical boundaries of California. This includes areas located in an Indian reservation or in another area of Indian country (as defined in 18 U.S.C. 1151) over which an Indian tribe, or the EPA, has demonstrated that the tribe has jurisdiction and where there is no EPA-approved minor NSR program in place. The EPA is proposing this general permit as an option for CAA minor NSR preconstruction permitting to help streamline the EPA's permitting of certain minor sources that construct or modify in Indian country and belong to the GDF source category.

The primary pollutant of concern for GDFs that may use this general permit is volatile organic compounds (VOC), which are emitted from storage tanks and gasoline dispensing units at GDFs. Some GDFs may also have emergency engines, but only those sources with emergency engines that are exempt from minor NSR permitting requirements may use this general permit. Emissions of all other regulated NSR pollutants from new or modified GDF sources that may use the general permit are expected to be below the minor NSR permitting thresholds in 40 CFR 49.153.

This draft general permit regulates VOC emissions from GDFs, and includes emission limitations that require each GDF to control emissions from storage tanks during unloading of the gasoline cargo from the tanker truck, using what are known as Stage I controls. In addition, the draft general permit requires GDFs in ozone nonattainment areas to limit VOC emissions resulting from vehicle refueling by recovering vapors displaced from the vehicle fuel tank, using pump-based controls known as Stage II controls. There are also limits on the amount of gasoline each GDF can dispense in a 12-month period: 25,000,000 million gallons in ozone attainment areas, and marginal and moderate ozone nonattainment areas; and 15,000,000 gallons in serious, severe, and extreme ozone nonattainment areas. The emission limitations in the draft general permit are expected to limit emissions of VOC from a new or modified GDF to less than 30 tons per year (tpy) in attainment areas and marginal and moderate ozone nonattainment areas and 8 tpy in serious, severe, and extreme ozone nonattainment areas. The detailed emission limitations are included in the draft permit and discussed in detail in our Technical Support Document for this draft permit, and are available for review here: https://www.epa.gov/caa-permitting/california-tribal-gasoline-permits.

Please bring the foregoing notice to the attention of all persons who would be interested in this matter.

Dated: November 22, 2106.
Elizabeth J. Adams,
Acting Director, Air Division, Region IX.

[FR Doc. 2016-28883 Filed 11-30-16; 8:45 am]

BILLING CODE 6560-50-P